DEPARTMENT OF ENERGY

Federal Energy Regulatory Commission

[Project Nos. P-2942-057; P-2984-128]

Presumpscot Hydro LLC and Relevate Power Maine LLC; Notice of Availability of Environmental Assessment

The EA contains Commission staff's analysis of the potential environmental effects of the proposed upgrade to the generating units and construction of a new transformer at the Eel Weir Project and the proposed modifications to the transmission lines at both the Dundee and the Eel Weir projects. The EA also contains alternatives to the proposed action and concludes that the proposed amendment would not constitute a major Federal action that would significantly affect the quality of the human environment.

The EA may be viewed on the Commission's website at https://www.ferc.gov using the “eLibrary” link. Enter the docket number (P-2942-057 and P-2984-128) in the docket number field to access the document. For assistance, contact FERC Online Support at FERCOnlineSupport@ferc.gov or toll-free at 1-866-208-3676, or for TTY, (202) 502-8659. You may also register online at http://www.ferc.gov/docs-filing/esubscription.asp to be notified via email of new filings and issuances related to this or other pending projects. For assistance, contact FERC Online Support.

All comments must be filed by June 2, 2025.

The Commission strongly encourages electronic filing. Please file comments using the Commission's eFiling system at https://www.ferc.gov/docs-filing/efiling.asp. Commenters can submit brief comments up to 6,000 characters, without prior registration, using the eComment system at https://www.ferc.gov/docs-filing/ecomment.asp. For assistance, please contact FERC Online Support. In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. The first page of any filing should include docket numbers P-2942-057 and 2984-128.

The Commission's Office of Public Participation (OPP) supports meaningful public engagement and participation in Commission proceedings. OPP can help members of the public, including landowners, community organizations, Tribal members, and others, access publicly available information and navigate Commission processes. For public inquiries and assistance with making filings such as interventions, comments, or requests for rehearing, the public is encouraged to contact OPP at (202) 502-6595 or OPP@ferc.gov.

For further information, contact Jeremy Jessup at 202-502-6779 or Jeremy.Jessup@ferc.gov.

Dated: May 2, 2025.
Carlos D. Clay,
Deputy Secretary.

[FR Doc. 2025-08054 Filed 5-7-25; 8:45 am]

BILLING CODE 6717-01-P